ENVIRONMENTAL PROTECTION AGENCY

40 CFR Part 180

[EPA-HQ-OPP-2005-0292]; FRL-7749-4]

Extension of Tolerances for Emergency Exemptions (Multiple Chemicals)

AGENCY: Environmental Protection Agency (EPA).

ACTION: Final rule.

SUMMARY: This regulation extends time-limited tolerances for the pesticides listed in Unit II. of the SUPPLEMENTARY INFORMATION. These actions are in response to EPA's granting of emergency exemptions under section 18 of the Federal Insecticide, Fungicide, and Rodenticide Act (FIFRA) authorizing use of these pesticides. Section 408(l)(6) of the Federal Food, Drug, and Cosmetic Act (FFDCA) requires EPA to establish a time-limited tolerance or exemption from the requirement for a tolerance for pesticide chemical residues in food that will result from the use of a pesticide under an emergency exemption granted by EPA.

DATES: This regulation is effective December 21, 2005. Objections and requests for hearings must be received on or before February 21, 2006.

ADDRESSES: To submit a written objection or hearing request follow the detailed instructions as provided in Unit III. of the SUPPLEMENTARY INFORMATION. EPA has established a docket for this action under Docket ID number EPA-HQ-OPP-2005-0292. All documents in the docket are on the www.regulations.gov web site. (EDOCKET, EPA's electronic public docket and comment system was replaced on November 25, 2005, by an enhanced federal-wide electronic docket management and comment system located at http://www.regulations.gov/. Follow the on-line instructions.) Although listed in the index, some information is not publicly available, i.e., CBI or other information whose disclosure is restricted by statute. Certain other material, such as copyrighted material, is not placed on the Internet and will be publicly available only in hard copy form. Publicly available docket materials are available either electronically through www.regulations.gov or in hard copy at the Public Information and Records Integrity Branch (PIRIB), Rm. 119, Crystal Mall #2, 1801 S. Bell St., Arlington, VA. This docket facility is open from 8:30 a.m. to 4 p.m., Monday through Friday, excluding legal holidays. The docket telephone number is (703) 305-5805.

FOR FURTHER INFORMATION CONTACT: See the table in this unit for the name of a specific contact person. The following information applies to all contact persons: Emergency Response Team, Registration Division (7505C), Office of Pesticide Programs, Environmental Protection Agency, 1200 Pennsylvania Ave., NW., Washington, DC 20460-0001.

Pesticide/CFR cite | Contact person
Diflubenzuron, 180.377; Maneb, 180.110; Propiconazole, 180.434; Tebuconazole, 180.474 | Libby Pemberton Sec-18-Mailbox@epamail.epa.gov (703) 308-9364
Lambda-cyhalothrin, 180.438; Spinosad, 180.495 | Andrew Ertman Sec-18-Mailbox@epamail.epa.gov (703) 308-9367
Methoxyfenozide, 180.544 | Stacey Milan Groce
| Sec-18-Mailbox@epamail.epa.gov
| (703) 305-2505
Difenoconazole, 180.475; Fenbuconazole, 180.480; Thiophanate methyl, 180.371 | Andrea Conrath Sec-18-Mailbox@epamail.epa.gov (703) 308-9356

SUPPLEMENTARY INFORMATION:

I. General Information

A. Does this Action Apply to Me?

You may be potentially affected by this action if you are an agricultural producer, food manufacturer, or pesticide manufacturer. Potentially affected entities may include, but are not limited to:

• Crop production (NAICS code 111)

• Animal production (NAICS code 112)

• Food manufacturing (NAICS code 311)

• Pesticide manufacturing (NAICS code 32532)

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT

.

B. How Can I Access Electronic Copies of this Document and Other Related Information?

In addition to using EDOCKET (http://www.epa.gov/edocket/), you may access this Federal Register document electronically through the EPA Internet under the “Federal Register” listings at http://www.epa.gov/fedrgstr/. A frequently updated electronic version of 40 CFR part 180 is available at E-CFR Beta Site Two at http://www.gpoaccess.gov/ecfr/.

II. Background and Statutory Findings

EPA published final rules in the Federal Register for each chemical/commodity listed. The initial issuance of these final rules announced that EPA, on its own initiative, under section 408 of the FFDCA, 21 U.S.C. 346a, as amended by the Food Quality Protection Act of 1996 (FQPA) (Public Law 104-170) was establishing time-limited tolerances.

EPA established the tolerances because section 408(l)(6) of the FFDCA requires EPA to establish a time-limited tolerance or exemption from the requirement for a tolerance for pesticide chemical residues in food that will result from the use of a pesticide under an emergency exemption granted by EPA under FIFRA section 18. Such tolerances can be established without providing notice or time for public comment.

EPA received requests to extend the use of these chemicals for this year's growing season. After having reviewed these submissions, EPA concurs that emergency conditions exist. EPA assessed the potential risks presented by residues for each chemical/commodity. In doing so, EPA considered the safety standard in section 408(b)(2) of the FFDCA, and decided that the necessary tolerance under section 408(l)(6) of the FFDCA would be consistent with the safety standard and with FIFRA section 18.

The data and other relevant material have been evaluated and discussed in the final rule originally published to support these uses. Based on that data and information considered, the Agency reaffirms that extension of these time-limited tolerances will continue to meet the requirements of section 408(l)(6) of the FFDCA. Therefore, the time-limited tolerances are extended until the date listed. EPA will publish a document in the Federal Register to remove the revoked tolerances from the Code of Federal Regulations (CFR). Although these tolerances will expire and are revoked on the date listed, under section 408(l)(5) of the FFDCA, residues of the pesticide not in excess of the amounts specified in the tolerance remaining in or on the commodity after that date will not be unlawful, provided the residue is present as a result of an application or use of a pesticide at a time and in a manner that was lawful under FIFRA, the tolerance was in place at the time of the application, and the residue does not exceed the level that was authorized by the tolerance. EPA will take action to revoke these tolerances earlier if any experience with, scientific data on, or other relevant information on this pesticide indicate that the residues are not safe.

Tolerances for the use of the following pesticide chemicals on specific commodities are being extended:

Difenoconazole. EPA has authorized under FIFRA section 18 the use of difenoconazole on sweet corn seed for control of various fungal diseases in Colorado and Idaho. This regulation extends time-limited tolerances for residues of the fungicide difenoconazole, (2S,4R)/(2R,4S)/(2R,4R)/(2S,4S)]1-[2-[4- (4-chlorophenoxy)-2-chlorophenyl]-4-methyl-1,3-dioxolan-2-yl-methyl]- 1H-1,2,4-triazole in or on sweet corn seed, forage, and stover at 0.1 part per million (ppm) for an additional 3-year period. These tolerances will expire and are revoked on December 31, 2008. Time-limited tolerances were originally published in the Federal Register of September 1, 1999 (64 FR 47680) (FRL-6094-3).

Diflubenzuron. EPA has authorized under FIFRA section 18 the use of diflubenzuron on wheat and barley for control of grasshoppers in Montana, Washington, and Idaho. This regulation extends time-limited tolerances for combined residues of the insecticide diflubenzuron, N-[[(4-chlorophenyl)amino]carbonyl]-2,6- difluorobenzamide and its metabolites 4-chlorophenlyurea and 4-chloroaniline (CPU) and (PCA) in or on wheat and barley grain at 0.05 ppm, wheat and barley straw at 0.50 ppm, wheat and barley hay at 1.0 ppm, wheat milled byproducts at 0.10 ppm, and aspirated grain fractions at 30 ppm for an additional 3-year period. These tolerances will expire and are revoked on December 31, 2008. Time-limited tolerances were originally published in the Federal Register of August 27, 2003 (68 FR 51479) (FRL-7323-1).

Fenbuconazole. EPA has authorized under FIFRA section 18 the use of fenbuconazole on grapefruit for control of greasy spot disease in Florida. This regulation extends time-limited tolerances for combined residues of the fungicide fenbuconazole and its metabolites RH-9129 and RH-9130, expressed as the parent fenbuconazole, in or on whole grapefruit at 0.5 ppm, at 4.0 ppm in/on dried grapefruit, at 35 ppm in/on grapefruit oil; and at 0.1 ppm in/on meat and meat by-products of cattle, goats, hogs, horses, and sheep for an additional 3-year period. These tolerances will expire and are revoked on December 31, 2008. Time-limited tolerances were originally published in the Federal Register of January 29, 1999 (64 FR 4577) (FRL6054-3).

Lambda-cyhalothrin. EPA has authorized under FIFRA section 18 the use of lambda-cyhalothrin on barley for control of the Russian wheat aphid and cutworms in Idaho, Colrado, Wyoming and Montana. This regulation extends time-limited tolerances for combined residues of the pyrethroid lambda-cyhalothrin, 1:1 mixture of (S)-α-cyano-3-phenoxybenzyl-(Z)- (1R,3R)-3-(2-chloro-3,3,3-trifluoroprop-1-enyl) -2,2-dimethylcyclopropanecarboxylate and (R)-α-cyano-3-phenoxybenzyl- (Z)-(1S,3S)-3-(2-chloro-3,3,3- trifluoroprop-1- enyl)-2,2-dimethylcyclopropanecarboxylate and its epimer expressed as epimer of lambda-cyhalothrin, a 1:1 mixture of (S)-α-cyano-3- phenoxybenzyl-(Z)-(1S,3S) -3-(2-chloro-3,3,3-trifluoroprop-1-enyl) -2,2-dimethylcyclopropanecarboxylate and (R)-α-cyano-3- phenoxybenzyl-(Z)-(1R,3R)-3-(2-chloro-3,3,3- trifluoroprop-1-enyl)- 2,2-dimethylcyclopropanecarboxylate in or on barley grain at 0.05 ppm, barley bran at 0.2 ppm, and barley hay and straw at 2.0 ppm for an additional 3-year period. These tolerances will expire and are revoked on December 31, 2008. Time-limited tolerances were originally published in the Federal Register of October 29, 1997 (62 FR 56095) (FRL-5745-5).

Lambda-cyhalothrin. EPA has authorized under FIFRA section 18 the use of lambda-cyhalothrin on alfalfa/clover/grass mixed stands for control of potato leafhoppers in New York. This regulation extends time-limited tolerances for combined residues of the pyrethroid lambda-cyhalothrin, 1:1 mixture of (S)-α-cyano-3-phenoxybenzyl-(Z)-(1R,3R)-3-(2-chloro-3,3,3-trifluoroprop-1-enyl)-2,2-dimethylcyclopropanecarboxylate and (R)-α-cyano-3-phenoxybenzyl- (Z)-(1S,3S)-3-(2-chloro-3,3,3- trifluoroprop-1- enyl)-2,2-dimethylcyclopropanecarboxylate and its epimer expressed as epimer of lambda-cyhalothrin, a 1:1 mixture of (S)-α-cyano-3- phenoxybenzyl-(Z)-(1S,3S) -3-(2-chloro-3,3,3-trifluoroprop-1-enyl) -2,2-dimethylcyclopropanecarboxylate and (R)-α-cyano-3- phenoxybenzyl-(Z)-(1R,3R)-3-(2-chloro-3,3,3- trifluoroprop-1-enyl)- 2,2-dimethylcyclopropanecarboxylate in or on Clover, forage at 5.0 ppm; Clover, hay at 6.0 ppm; Grass, forage at 5.0 ppm; and Grass, hay at 6.0 ppm for an additional 3-year period. These tolerances will expire and are revoked on December 31, 2008. Time-limited tolerances were originally published in the Federal Registers of January 3, 2003 (68 FR 283) (FRL-7285-2) and September 3, 2003 (68 FR 52354)(FRL-7321-3).

Lambda-cyhalothrin. EPA has authorized under FIFRA section 18 the use of lambda-cyhalothrin on wild rice for control of rice worms in Minnesota. This regulation extends a time-limited tolerance for combined residues of the pyrethroid lambda-cyhalothrin, 1:1 mixture of (S)-α-cyano-3-phenoxybenzyl-(Z)- (1R,3R)-3-(2-chloro-3,3,3- trifluoroprop-1-enyl)-2,2-dimethylcyclopropanecarboxylate and (R)-α-cyano-3-phenoxybenzyl- (Z)-(1S,3S)-3-(2-chloro-3,3,3- trifluoroprop-1- enyl)-2,2-dimethylcyclopropanecarboxylate and its epimer expressed as epimer of lambda-cyhalothrin, a 1:1 mixture of (S)-α-cyano-3- phenoxybenzyl-(Z)-(1S,3S) -3-(2-chloro-3,3,3-trifluoroprop-1-enyl) -2,2-dimethylcyclopropanecarboxylate and (R)-α-cyano-3- phenoxybenzyl-(Z)-(1R,3R)-3-(2-chloro-3,3,3- trifluoroprop-1-enyl)- 2,2-dimethylcyclopropanecarboxylate in or on rice, wild at 1.0 ppm for an additional 3-year period. These tolerances will expire and are revoked on December 31, 2008. The time-limited tolerance was originally published in the Federal Register of January 3, 2003 (68 FR 283) (FRL-7285-2).

Maneb. EPA has authorized under FIFRA section 18 the use of maneb on walnuts for control of bacterial blight in California. This regulation extends a time-limited tolerance for combined residues of the fungicide maneb (manganous ethylenebisdithiocarbamate) calculated as zinc ethylenebisdithiocarbamate, and its metabolite ethylenethiourea in or on walnuts at 0.05 ppm for an additional 1-year period. This tolerance will expire and is revoked on December 31, 2008. A time-limited tolerance was originally published in the Federal Register on March 17, 1999 (64 FR 13097) (FRL-6067-9).

Methoxyfenozide. EPA has authorized under FIFRA section 18 the use of methoxyfenozide on soybeans for control of soybean loopers and salt marsh catepillars in Mississippi, Louisiana, and Arkansas. This regulation extends a time-limited tolerance for residues of the insecticide methoxyfenozide, benzoic acid, 3-methoxy-2-methyl-2-(3,5- dimethylbenzoyl)-2-(1,1-dimethylethyl)hydrazide in or on soybean aspirated grain fractions at 20 ppm, soybean seed at 0.04 ppm, soybean forage at 10 ppm, soybean hay at 75 ppm, and soybean refined oil at 1.0 ppm for an additional 2-year period. These tolerances will expire and are revoked on December 31, 2007. Time-limited tolerances were originally published in the Federal Register on November 2, 2001 (66 FR 55585) (FRL-6806-4).

Propiconazole. EPA has authorized under FIFRA section 18 the use of propiconazole on cranberries for control of cottonball disease in Wisconsin. This regulation extends a time-limited tolerance for combined residues of the fungicide propiconazole, 1-[[2-(2,4-dichlorophenyl)-4-propyl-1,3-dioxolan-2-yl]methyl]-1H-1,2,4-triazole and its metabolites determined as 2,4-dichlorobenzoic acid and expressed as parent compound in or on cranberry for an additional two-year period. This tolerance will expire and is revoked on December 31, 2007. A time-limited tolerance was originally published in the Federal Register on April 11, 1997 (62 FR 17710) (FRL-5600-5).

Spinosad. EPA has authorized under FIFRA section 18 the use of spinosad on alfalfa for control of armyworms in New Mexico and on pastureland and rangeland for control of armyworms in Arkansas, Mississippi, and Oregon. This regulation extends time-limited tolerances for combined residues of the insecticide spinosad, Factor A is 2-[(6-deoxy-2,3,4-tri-O-methyl-o-L-mannopyranosyl)oxy]-13-[[5-(dimethlamino)-tetrahydro-6-methyl-2H-pyran-2-yl]oxy]9-ethyl-2,3,3a,5a,6,9,10,11,12,13,14,16a,6b,tetradecahydro-14-methyl-1H-as-Indaceno[3,2d]oxacyclododecin-7,15-dione. Factor D is 2-[6-deoxy-2,3,4-tri-O-methyl-o-L-mannopyranosyl)oxy]13-[[5-(dimethylamino)-tetrahydri-6-methyl-2H-pyran-2-yl]oxy]-9-ethyl-2,3,3a,5a,5b,6,9,10,11,12,13,14,16a,16b-tetradecahydro-4,14,dimethyl-1H-as-Indaceno[3,2d]oxacyclododecin-7,15-dione. in or on alfalfa forage at 4.0 ppm; alfalfa hay at 4.0 ppm; grass forage at 7.0 ppm; and grass hay at 7.0 ppm; for an additional 3-year period. These tolerances will expire and are revoked on December 31, 2008. A time-limited tolerance was originally published for sunflowers in the Federal Register of January 9, 2001 (66 FR 1592) (FRL-6760-2).

Tebuconazole. EPA has authorized under FIFRA section 18 the use of tebuconazole on garlic for control of garlic rust in California. This regulation extends a time-limited tolerance for residues of the fungicide tebuconazole in or on garlic at 0.1 ppm for an additional 2-year period. This tolerance will expire and is revoked on December 31, 2007. A time-limited tolerance was originally published in the Federal Register on May 26, 1999 (64 FR 28377) (FRL-6079-1).

Tebuconazole. EPA has authorized under FIFRA section 18 the use of tebuconazole on sunflowers for control of rust in Colorado. This regulation extends a time-limited tolerance for residues of the fungicide tebuconazole in or on sunflower oil at 0.4 ppm and sunflower seed at 0.2 ppm for an additional 2-year period. This tolerance will expire and is revoked on December 31, 2007. A time-limited tolerance was originally published in the Federal Register on June 20, 1997 (62 FR 33550) (FRL-5725-7).

Thiophanate methyl. EPA has authorized under FIFRA section 18 the use of thiophanate methyl on fruiting vegetables, including tomato, for control of white mold in Florida, Virginia, and New Jersey. This regulation extends a crop group time-limited tolerance for residues of the fungicide thiophanate methyl and its metabolite methyl 2-benzimidazoyl carbamate (MBC) in or on the fruiting vegetable crop group at 0.5 ppm for an additional 3-year period. This crop group tolerance will expire and is revoked on December 31, 2008. The time-limited tolerance was originally published in the Federal Register on July 23, 2003 (68 FR 43465) (FRL-7317-5).

III. Objections and Hearing Requests

Under section 408(g) of the FFDCA, as amended by the FQPA, any person may file an objection to any aspect of this regulation and may also request a hearing on those objections. The EPA procedural regulations which govern the submission of objections and requests for hearings appear in 40 CFR part 178. Although the procedures in those regulations require some modification to reflect the amendments made to the FFDCA by the FQPA, EPA will continue to use those procedures, with appropriate adjustments, until the necessary modifications can be made. The new section 408(g) of the FFDCA provides essentially the same process for persons to “object” to a regulation for an exemption from the requirement of a tolerance issued by EPA under new section 408(d) of the FFDCA, as was provided in the old sections 408 and 409 of the FFDCA. However, the period for filing objections is now 60 days, rather than 30 days.

A. What Do I Need to Do to File an Objection or Request a Hearing?

You must file your objection or request a hearing on this regulation in accordance with the instructions provided in this unit and in 40 CFR part 178. To ensure proper receipt by EPA, you must identify docket ID number EPA-HQ-OPP-2005-0292 in the subject line on the first page of your submission. All requests must be in writing, and must be mailed or delivered to the Hearing Clerk on or before January 20, 2006.

1. Filing the request. Your objection must specify the specific provisions in the regulation that you object to, and the grounds for the objections (40 CFR 178.25). If a hearing is requested, the objections must include a statement of the factual issue(s) on which a hearing is requested, the requestor's contentions on such issues, and a summary of any evidence relied upon by the objector (40 CFR 178.27). Information submitted in connection with an objection or hearing request may be claimed confidential by marking any part or all of that information as CBI. Information so marked will not be disclosed except in accordance with procedures set forth in 40 CFR part 2. A copy of the information that does not contain CBI must be submitted for inclusion in the public record. Information not marked confidential may be disclosed publicly by EPA without prior notice.

Mail your written request to: Office of the Hearing Clerk (1900L), Environmental Protection Agency, 1200 Pennsylvania Ave., NW., Washington, DC 20460-0001. You may also deliver your request to the Office of the Hearing Clerk in Suite 350, 1099 14th St., NW., Washington, DC 20005. The Office of the Hearing Clerk is open from 8 a.m. to 4 p.m., Monday through Friday, excluding legal holidays. The telephone number for the Office of the Hearing Clerk is (202) 564-6255.

2. Copies for the Docket. In addition to filing an objection or hearing request with the Hearing Clerk as described in Unit III.A., you should also send a copy of your request to the PIRIB for its inclusion in the official record that is described in ADDRESSES. Mail your copies, identified by docket ID number EPA-HQ-OPP-2005-0292, to: Public Information and Records Integrity Branch, Information Technology and Resource Management Division (7502C), Office of Pesticide Programs, Environmental Protection Agency, 1200 Pennsylvania Ave., NW., Washington, DC 20460-0001. In person or by courier, bring a copy to the location of the PIRIB described in ADDRESSES. You may also send an electronic copy of your request via e-mail to: opp-docket@epa.gov. Please use an ASCII file format and avoid the use of special characters and any form of encryption. Copies of electronic objections and hearing requests will also be accepted on disks in WordPerfect 6.1/8.0 file format or ASCII file format. Do not include any CBI in your electronic copy. You may also submit an electronic copy of your request at many Federal Depository Libraries.

B. When Will the Agency Grant a Request for a Hearing?

A request for a hearing will be granted if the Administrator determines that the material submitted shows the following: There is a genuine and substantial issue of fact; there is a reasonable possibility that available evidence identified by the requestor would, if established resolve one or more of such issues in favor of the requestor, taking into account uncontested claims or facts to the contrary; and resolution of the factual issue(s) in the manner sought by the requestor would be adequate to justify the action requested (40 CFR 178.32).

IV. Statutory and Executive Order Reviews

This final rule establishes time-limited tolerances under section 408 of the FFDCA. The Office of Management and Budget (OMB) has exempted these types of actions from review under Executive Order 12866, entitled Regulatory Planning and Review (58 FR 51735, October 4, 1993). Because this rule has been exempted from review under Executive Order 12866 due to its lack of significance, this rule is not subject to Executive Order 13211, Actions Concerning Regulations That Significantly Affect Energy Supply, Distribution, or Use (66 FR 28355, May 22, 2001). This final rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations under Executive Order 12898, entitled Federal Actions to Address Environmental Justice in Minority Populations and Low-Income Populations (59 FR 7629, February 16, 1994); or OMB review or any Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). Since tolerances and exemptions that are established under section 408(l)(6) of the FFDCA in response to an exemption under FIFRA section 18, such as the tolerances in this final rule, do not require the issuance of a proposed rule, the requirements of the Regulatory Flexibility Act (RFA) (5 U.S.C. 601 et seq.) do not apply. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive order to include regulations that have “substantial direct effects on the States, on the relationship between the national government and the States, or on the distribution of power and responsibilities among the various levels of government.” This final rule directly regulates growers, food processors, food handlers and food retailers, not States. This action does not alter the relationships or distribution of power and responsibilities established by Congress in the preemption provisions of section 408(n)(4) of the FFDCA. For these same reasons, the Agency has determined that this rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” is defined in the Executive order to include regulations that have “substantial direct effects on one or more Indian tribes, on the relationship between the Federal Government and the Indian tribes, or on the distribution of power and responsibilities between the Federal Government and Indian tribes.” This rule will not have substantial direct effects on tribal governments, on the relationship between the Federal Government and Indian tribes, or on the distribution of power and responsibilities between the Federal Government and Indian tribes, as specified in Executive Order 13175. Thus, Executive Order 13175 does not apply to this rule.

V. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pests, Reporting and recordkeeping requirements.

Dated: December 15, 2005.
Rachel C. Holloman,
Acting Director, Registration Division, Office of Pesticide Programs.

Therefore, 40 CFR chapter I is amended as follows:

PART 180—[AMENDED]

1. The authority citation for part 180 continues to read as follows:

Authority: 21 U.S.C. 321(q), 346a and 371.

§ 180.110 [Amended]

2. In § 180.110, in the table to paragraph (b), amend the entry for Walnuts by revising the expiration date “12/31/07” to read “12/31/08.”

§ 180.371 [Amended]

3. In § 180.371, in the table to paragraph (b), amend the entry for Vegetables, Fruiting, Group 8 by revising the expiration date “12/31/05” to read “12/31/08.”

§ 180.377 [Amended]

4. In § 180.377, in the table to paragraph (b), amend the entries for Barley, grain; Barley, hay; Barley, straw; Wheat, aspirated grain fractions; Wheat, grain; Wheat, hay; Wheat, milled byproducts; and Wheat, straw by revising the expiration date “12/31/05” to read “12/31/08.”

§ 180.434 [Amended]

5. In § 180.434, in the table to paragraph (b), amend the entry for Cranberry by revising the expiration date “12/31/05” to read “12/31/07.”

§ 180.438 [Amended]

6. In § 180.438, in the table to paragraph (b), amend the entries for Barley, bran; Barley, grain; Barley, hay; Barley, straw; Clover, forage; Clover, hay; Grass, forage; Grass, hay; Rice, wild by revising the expiration dates “12/31/05” to read “12/31/08.”

§ 180.474 [Amended]

8. In § 180.474, in the table to paragraph (b), amend the entries for Garlic; Sunflower, oil and Sunflower, seed by revising the expiration date “12/31/05” to read “12/31/07.”

§ 180.475 [Amended]

9. In § 180.475, in the table to paragraph (b), amend the entries for Corn, sweet (kernel + cob with husk removed; Corn, sweet, forage; and Corn, sweet, stover by revising the expiration dates “12/31/05” to read “12/31/08.”

§ 180.480 [Amended]

10. In § 180.480, in the table to paragraph (b), amend the entries for Cattle, fat; Cattle, meat byproducts; Cattle, meat; Goat, fat; Goat, meat byproducts; Goat, meat; Grapefruit; Grapefruit, dried pulp; Grapefruit oil; Hogs, fat; Hogs, meat byproducts; Hogs, meat; Horse, fat; Horse, meat byproducts; Horse, meat; Sheep, fat; Sheep, meat byproducts; and, Sheep, meat; by revising the expiration dates “12/31/05” to read “12/31/08.”

§ 180.495 [Amended]

11. In § 180.495, in the table to paragraph (b), amend the entries for Alfalfa, forage; Alfalfa, hay; Grass, forage; and Grass, hay; by revising the expiration date “12/31/05” to read “12/31/08.”

§ 180.544 [Amended]

12. In § 180.544, in the table to paragraph (b), amend the entries for Soybean, aspirated grain fractions; Soybean, forage; Soybean, hay; Soybean, refined oil; Soybean, seed by revising the expiration date “12/31/05” to read “12/31/07.”

[FR Doc. 05-24322 Filed 12-20-05; 8:45 am]

BILLING CODE 6560-50-S